DEPARTMENT OF LABOR

Occupational Safety and Health Administration

Agency Information Collection Activities; Announcement of Office of Management and Budget (OMB) Control Numbers Under the Paperwork Reduction Act

AGENCY: Occupational Safety and Health Administration (OSHA), Labor.

ACTION: Notice; announcement of OMB approval of information collection requirements.

SUMMARY: The Occupational Safety and Health Administration (OSHA) announces that OMB has extended its approval for a number of information collection requirements found in sections of 29 CFR pars 1910, 1915, 1917, 1918, 1926, and 1928. OSHA sought approval under the Paperwork Reduction Act of 1995 (PRA-95), and, as required by that Act, is announcing the approval number and expiration dates for those requirements.

DATES: This notice is effective June 22, 2006.

FOR FURTHER INFORMATION CONTACT: Todd Owen or Theda Kenney, Directorate of Standards and Guidance, Occupational Safety and Health Administration, U.S. Department of Labor, Room N-3609, 200 Constitution Avenue, NW., Washington, DC 20210, telephone: (202) 693-2222.

SUPPLEMENTARY INFORMATION: In a series of Federal Register notices, the Agency announced its requests to OMB to renew its current extensions of approvals for various information collection (paperwork) requirements in its safety and health standards for general industry, shipyard employment, longshoring, marine terminals, the construction industry, and agriculture (i.e., 29 CFR Parts 1910, 1915, 1917, 1918, 1926, and 1928). In these Federal Register announcements, the Agency provided 60-day comment periods for the public to respond to OSHA's burden-hour and cost estimates.

In accordance with PRA-95 (44 U.S.C. 3501-3520), OMB renewed its approval for these information collection requirements and assigned OMB control numbers to these requirements. The table below provides the following information for each of these OMB-approved requirements: The title of the collection; the date of the Federal Register notice; the Federal Register reference (date, volume, and leading page); OMB's control number; and the new expiration date.

Title | Date of Federal Register Publication, Federal Register Reference, and OSHA Docket No. | OMB Control No. | Expiration Date
Acrylonitrile (29 CFR 1910.1045) | 06/15/2005, 70 FR 34799, Docket No. 1218-0126 (2005) | 1218-0126 | 11/30/2008
1,2-Dibromo-3-Chloropropane (DBCP) Standard (29 CFR 1910.1044) | 09/01/2005, 70 FR 52132, Docket No. 1218-0101 (2005) | 1218-0101 | 02.28/2009
Asbestos in Construction (29 CFR 1926.1101) | 10/27/2005, 70 FR 62002, Docket No. 1218-0134 (2006) | 1218-0134 | 02/28/2009
Asbestos in Shipyards (29 CFR 1915.1001) | 10/27/2005, 70 FR 62003, Docket No. 1218-0195 (2006) | 1218-0195 | 02/28/2009
Blasting and the Use of Explosives (29 CFR part 1926, subpart U) | 11/25/2005, 70 FR 71174, Docket No. 1218-0217 (2006) | 1218-0217 | 03/31/2009
Cadmium in Construction (29 CFR 1926.1127) | 10/27/2005, 70 FR 62006, Docket No. 1218-0186 (2006) | 1218-0185 | 03/31/2009
Cadmium in General Industry (29 CFR 1910.1027) | 10/27/2005, 70 FR 62005, Docket No. 1218-0185 (2006) | 1218-0185 | 03/31/2009
Coke Oven Emissions (29 CFR 1910.1029) | 05/23/2005, 70 FR 29536, Docket No. 1218-0128 (2006) | 1218-0128 | 10/31/2008
Cotton Dust (29 CFR 1910.1043) | 06/28/2005, 70 FR 37122, Docket No. 1218-0061 (2005) | 1218-0061 | 11/30/2008
Design of Cave-in Protection Systems (29 CFR 1926.652) | 12/07/2004, 69 FR 70710, Docket No. 1218-0137 (2005) | 1218-0137 | 06/30/2008
Electrical Standards for Construction (29 CFR part 1926, subpart K) and for General Industry (29 CFR part 1910, subpart S) | 04/20/2005, 70 FR 20604, Docket No. 1218-0130 (2005) | 1218-0130 | 09/30/2008
Hazardous Waste Operations and Emergency Response (HAZWOPER) (29 CFR 1910.120) | 10/27/2005, 70 FR 61999, Docket No. 1218-0202 (2006) | 1218-0202 | 03/31/2009
Inorganic Arsenic (29 CFR 1910.1018) | 07/22/2005, 70 FR 42389, Docket No. 1218-0104 (2005) | 1218-0104 | 11/30/2008
Marine Terminals Standards (29 CFR part 1917) and Safety and Health Regulations for Longshoring (29 CFR part 1918) | 11/21/2005, 70 FR 70102, Docket No. 1218-0196 (2006) | 1218-0196 | 03/31/2009
Methylene Chloride (29 CFR 1910.1052) | 12/07/2004, 69 FR 70709, Docket No. 1218-0179 (2005) | 1218-0179 | 06/30/2008
OSHA Strategic Partnership Program for Worker Safety and Health (OSPP) | 11/25/2005, 70 FR 71173, Docket No. 1218-0244 (2006) | 1218-0244 | 03/31/2009
Permit-Required Confined Spaces (29 CFR 1910.146) | 08/31/2005, 70 FR 51849, Docket No. 1218-0203 (2005) | 1218-0203 | 02/28/2009
Servicing Multi-Piece and Single Piece Rim Wheels (29 CFR 1910.177) | 07/22/2005, 70 FR 42392, Docket No. 1218-0219 (2005) | 1218-0219 | 11/30/2008
Shipyard Employment Standards (29 CFR 1915.113(b)(1) and 1915.172(d)) | 07/22/2005, 70 FR 42390, Docket No. 1218-0220 (2005) | 1218-0220 | 11/30/2008
Slings (29 CFR 1910.184) | 05/26/2005, 70 FR 30488, Docket No. 1218-0223 (2005) | 1218-0223 | 10/31/2008
Subpart A (“General Provisions”) and Subpart B (“Confined and Enclosed Spaces and other Dangerous Atmospheres in Shipyard Employment”) (29 CFR part 1915) | 04/01/2005, 70 FR 16871, Docket No. 1218-0011 (2005) | 1218-0011 | 07/31/2008
Telecommunications (Training Certification Record) (29 CFR 1910.268(c)) | 07/22/2005, 70 FR 42391, Docket No. 1218-0225 (2005) | 1218-0225 | 12/31/2008
Vinyl Chloride Standard (29 CFR 1910.1017) | 06/10/2005, 70 FR 33926, Docket No. 1218-0010 (2005) | 1218-0010 | 10/31/2008

In accordance with 5 CFR 1320.5(b), an agency cannot conduct, sponsor, or require a response to a collection of information unless the collection displays a valid OMB control number and the agency informs respondents that they are not required to respond to the collection of information unless it displays a currently valid OMB control number.

Authority and Signature

Edwin G. Foulke, Jr., Assistant Secretary of Labor for Occupational Safety and Health, directed the preparation of this notice. The authority for this notice is the Paperwork Reduction Act of 1995 (44 U.S.C. 3506 et seq.), and Secretary of Labor's Order No. 5-2002 (67 FR 65008).

Signed at Washington, DC, on June 14, 2006.
Edwin G. Foulke, Jr.,
Assistant Secretary of Labor.

[FR Doc. 06-5578 Filed 6-21-06; 8:45 am]

BILLING CODE 4510-26-M